ENVIRONMENTAL PROTECTION AGENCY

[FRL-OW-7431-3]

Revision of National Recommended Water Quality Criteria

AGENCY: Environmental Protection Agency (EPA).

ACTION: Notice of availability; revision of National Recommended Water Quality Criteria.

SUMMARY: EPA is publishing a revision of fifteen of its national recommended water quality criteria for protecting human health, developed pursuant to section 304(a) of the Clean Water Act (CWA or the Act). This revision is a partial update based on EPA's new methodology for deriving human health criteria. The fifteen criteria included in this notice are: chlorobenzene; cyanide; 1,2-dichlorobenzene; 1,4-dichlorobenzene; 1,1-dichloroethylene; 1,3-dichloropropene; endrin; ethylbenzene; hexachlorocyclopentadiene; lindane; thallium; toluene; 1,2-transdichloroethylene; 1,2,4-trichlorobenzene; and vinyl chloride. EPA is also announcing the availability of an updated national recommended water quality criteria compilation. The updated compilation is available on the Office of Science and Technology's website under Criteria Table (see http://www.epa.gov/waterscience/humanhealth/). In the updated compilation, EPA partially revised 83 national recommended water quality criteria for protecting human health. The fifteen criteria in today's Notice are not part of the updated compilation. EPA's recommended water quality criteria provide guidance for States and authorized Tribes to establish water quality standards under the CWA to protect human health and aquatic life. Under the CWA, States and authorized Tribes are to establish water quality standards to protect designated uses. Such standards are used in implementing a number of environmental programs, including setting discharge limits in National Pollutant Discharge Elimination System (NPSED) permits. Once established an EPA water quality criterion does not substitute for the CWA or EPA's regulations; nor is it a regulation itself. Thus, it cannot impose legally binding requirements on the EPA, States authorized Tribes or the regulated community, and might not apply to a particular situation based upon the circumstances. State and Tribal decision-makers retain the discretion to adopt approaches on a case-by-case basis that differ from EPA's guidance when appropriate.

DATES: EPA will accept scientific views on the fifteen criteria published in this notice until February 25, 2003. Scientific views postmarked after this date may not receive the same consideration.

ADDRESSES: Comments may be submitted electronically, by mail or through hand delivery/courier. Follow the detailed instructions as provided in Section I of the SUPPLEMENTARY INFORMATION section. Electronic files may be e-mailed to: OW-Docket@epa.gov. You should address comments by mail to the Water Docket (MC-4101T), U.S. EPA, 1200 Pennsylvania Avenue, NW., Washington, DC 20460, Attention Docket ID No. OW-2002-0054. Instructions for couriers and other hand delivery are provided below in Section I.B.3. The Agency will not accept facsimiles (faxes). Send requests for copies of this Federal Register Notice to: U.S. Environmental Protection Agency, National Service Center for Environmental Publications, P.O. Box 42419, Cincinnati, Ohio 45242-2419; telephone: 1-800-490-9198; fax: 513-489-8695. Alternatively, you can find this Federal Register notice on EPA's web site at http://www.epa.gov/fedrgstr/ on the Internet.

FOR FURTHER INFORMATION CONTACT: Cindy A. Roberts, Health and Ecological Criteria Division (4304T), U.S. EPA, Ariel Rios Building, 1200 Pennsylvania Ave., NW., Washington, DC 20460; (202) 566-1124; roberts.cindy@epa.gov.

SUPPLEMENTARY INFORMATION:

I. General Information

A. How Can I Get Copies Of This Document and Other Related Information?

1. Docket. EPA has established an official public docket for this action under Docket ID No. OW-2002-0054. The official public docket consists of the documents specifically referenced in this action and any scientific views received. The public docket does not include Confidential Business Information (CBI) or other information whose disclosure is restricted by statute. The official public docket is the collection of materials that is available for public viewing at the Water Docket in the EPA Docket Center, (EPA/DC) EPA West, Room B102, 1301 Constitution Ave., NW., Washington, DC. The EPA Docket Center Public Reading Room is open from 8:30 a.m. to 4:30 p.m., Monday through Friday, excluding legal holidays. The telephone number for the Public Reading Room is (202) 566-1744, and the telephone number for the Office of Water Docket is (202) 566-2426. A reasonable fee will be charged for copies.

2. Electronic Access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or read the scientific views, access the index listing of the contents of the official public docket, and to access those documents in the public docket that are available electronically. Once in the system, select “search,” then key in the appropriate docket identification number.

Certain types of information will not be placed in the EPA Dockets. Information claimed as CBI and other information whose disclosure is restricted by statute is not included in the official public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Section I.A.1.

For scientific views, it is important to note that EPA's policy is that scientific views, whether submitted electronically or in paper, will be made available for public viewing in EPA's electronic public docket as EPA receives them and without change, unless the views contain copyrighted material or other information whose disclosure is restricted by statute. When EPA identifies a scientific view containing copyrighted material, EPA will provide a reference to that material in the version of the view that is placed in EPA's electronic public docket. The entire printed scientific view, including the copyrighted material, will be available in the public docket.

Scientific views submitted on computer disks that are mailed or delivered to the docket will be transferred to EPA's electronic public docket. Scientific views that are mailed or delivered to the Docket will be scanned and placed in EPA's electronic public docket. Where practical, physical objects will be photographed, and the photograph will be placed in EPA's electronic public docket along with a brief description written by the docket staff.

For additional information about EPA's electronic public docket visit EPA Dockets online or see 67 FR 38102, May 31, 2002.

B. How and To Whom Do I Submit My Scientific Views?

You may submit scientific views electronically, by mail or through hand delivery/courier. To ensure proper receipt by EPA, identify the appropriate docket identification number in the subject line on the first page of your views. Please ensure that your views are submitted within the specified time period. Scientific views received after the close of the stated time period will be marked “late.” EPA is not required to consider these late submittals. Do not use EPA Dockets or e-mail to submit CBI or information protected by statute. Commenters who want EPA to acknowledge receipt of their submittals should include a self-addressed stamped envelope.

1. Electronically. If you submit electronic input as prescribed below, EPA recommends that you include your name, mailing address, and an e-mail address or other contact information in the body of your scientific views. Also include this contact information on the outside of any disk or CD ROM you submit, and in any cover letter accompanying the disk or CD ROM. This ensures that you can be identified as the submitter of the input and allows EPA to contact you in case EPA cannot read your views due to technical difficulties or needs further information on the substance of your views. EPA's policy is that EPA will not edit your scientific views, and any identifying or contact information provided in the body of a view will be included as part of the input that is placed in the official public docket, and made available in EPA's electronic public docket. If EPA cannot read your views due to technical difficulties and cannot contact you for clarification, EPA may not be able to consider your views.

i. EPA Dockets. Your use of EPA's electronic public docket to submit scientific views to EPA electronically is EPA's preferred method for receiving scientific views. Go directly to EPA Dockets at http://www.epa.gov/edocket/ and follow the online instructions for submitting input. To access EPA's electronic public docket from the EPA Internet Home Page, select “Information Sources,” “Dockets,” and “EPA Dockets.” Once in the system, select “search,” and then key in Docket ID No. OW-2002-0054. The system is an “anonymous access” system, which means EPA will not know your identity, e-mail address, or other contact information unless you provide it in the body of your input.

ii. E-mail. Scientific views may be sent by electronic mail (e-mail) to: OW-Docket@epa.gov, Attention Docket ID No. OW-2002-0054. In contrast to EPA's electronic public docket, EPA's e-mail system is not an “anonymous access” system. If you send an e-mail scientific view directly to the Docket without going through EPA's electronic public docket, EPA's e-mail system automatically captures your e-mail address. E-mail addresses that are automatically captured by EPA's e-mail system are included as part of the views that are placed in the official public docket, and made available in EPA's electronic public docket.

iii. Disk or CD ROM. You may submit scientific views on a disk or CD ROM that you mail to the mailing address identified in Section I.A.1. The disk or CD ROM input of scientific views must be submitted as a WordPerfect 9, or higher, file or as an ASCII file format. Avoid the use of special characters and any form of encryption.

2. By Mail. Send an original and three copies of all scientific views and any enclosures, including references, on the fifteen criteria addressed to the Water Docket (MC-4101T), U.S. EPA, 1200 Pennsylvania Avenue, NW., Washington, D.C. 20460, Attention Docket ID No. OW-2002-0054.

3. By Hand Delivery or Courier. Deliver your scientific views to: EPA Docket Center, (EPA/DC) EPA West, Room B102, 1301 Constitution Ave., NW., Washington, DC, Attention Docket ID No. OW-2002-0054. Such deliveries are only accepted during the Docket's normal hours of operation as identified in Section I.A.1.

C. What Should I Consider as I Prepare My Scientific Views for EPA?

You may find the following suggestions helpful for preparing your scientific views:

1. Explain your views as clearly as possible.

2. Describe any assumptions that you used.

3. Provide any technical information and/or data you used that support your views.

4. If you estimate potential burden or costs, explain how you arrived at your estimate.

5. Provide specific examples to illustrate your concerns.

6. Offer alternatives.

7. Make sure to submit your scientific views by the time period deadline identified.

8. To ensure proper receipt by EPA, identify the appropriate docket identification number in the subject line on the first page of your response. It would also be helpful if you provided the name, date, and Federal Register citation related to your views.

II. What Are Water Quality Criteria?

Water quality criteria are scientifically derived numeric values that protect aquatic life or human health from the deleterious effects of pollutants in ambient water.

Section 304(a)(1) of the Clean Water Act requires EPA to develop and publish and, from time to time, revise, criteria for water quality accurately reflecting the latest scientific knowledge. Water quality criteria developed under section 304(a) are based solely on data and scientific judgments on the relationship between pollutant concentrations and environmental and human health effects. Section 304(a) criteria do not reflect consideration of economic impacts or the technological feasibility of meeting the chemical concentrations in ambient water. Section 304(a) criteria provide guidance to States and authorized Tribes in adopting water quality standards that ultimately provide a basis for controlling discharges or releases of pollutants. The criteria also provide guidance to EPA when promulgating federal regulations under section 303(c) when such action is necessary.

III. What Are the Criteria Revisions?

EPA is today publishing an update of the following fifteen national recommended water quality criteria (NRWQC) for protecting human health: chlorobenzene; cyanide; 1,2-dichlorobenzene; 1,4-dichlorobenzene; 1,1-dichloroethylene; 1,3-dichloropropene; endrin; ethylbenzene; hexachlorocyclopentadiene; lindane; thallium; toluene; 1,2-transdichloroethylene; 1,2,4-trichlorobenzene; and vinyl chloride. These revisions are based on EPA's new methodology for deriving human health criteria (See: Methodology for Deriving Ambient Water Quality Criteria for the Protection of Human Health (2000), EPA-822-B-00-004, October 2000). The revised methodology describes the Agency's current approach for deriving national recommended water quality criteria to protect human health.

The revision of these criteria represents a partial update of the 304(a) criteria as described in both the draft Methodology revisions and the Federal Register Notice that accompanied the final Methodology (65 FR 66444). EPA believes that updating a limited number of components for which there are available data or improved science (i.e., a partial update) is a reasonable and efficient means of publishing revised 304(a) criteria more frequently. EPA has also previously described its process for publishing revised criteria [see National Recommended Water Quality Criteria—Correction (64 FR 19781; or EPA 822-Z-99-001) or the Federal Register Notice for the final Methodology (65 FR 66444)]. EPA specifically stated that when making minor revisions to existing criteria based on new information pertaining to individual components of the criteria, it will publish the recalculated criteria directly as the Agency's national recommended water quality criteria. Because recalculation of these fifteen criteria result in significant changes, EPA is publishing them in today's Notice in order to solicit scientific views as indicated in the previously published process. However, EPA does not intend to subject these recalculations to additional peer review because all of the new components used in the recalculations have been previously reviewed. A calculation matrix containing the components (e.g., cancer dose-response assessment, reference dose and relative source contribution) used to derive the criteria in this compilation was prepared to assist reviewers and is available from the docket described in the SUPPLEMENTARY INFORMATION section. No information has been presented for the first time as part of today's action. The fifteen revised criteria are included in Table 1.

Table 1.—Revised Human Health Criteria
Priority pollutant | CAS No. | Human health for Consumption of:: Water + organism (ug/L) | Human health for Consumption of:: Organism only (ug/L) | Components
Thallium | 7440280 | 0.24 | 0.47 | RfD = 6.8E-5 BCF = 116 (RFD LISTED IS FOR THALLIUM (I) SULFATE 7446-18-6) RSC = 20% FI = 17.5
Cyanide | 57125 | 140 | 16,000 | RfD = 2E-2 BCF = 1 RSC = 20% FI = 17.5
Chlorobenzene | 108907 | 130 | 1,600 | RfD = 2E-2 BCF = 10.3 RSC = 20 % FI = 17.5
1,1-Dichloroethylene | 75354 | 330 | 7,100 | RfD = 5E-2 RSC = 20 % BCF = 5.6 FI = 17.5
1,3-Dichloropropene | 542756 | 0.34 | 21 | q1* = 0.1 BCF = 1.9 FI = 17.5
Ethylbenzene | 100414 | 530 | 2,100 | RfD = 1E-1 BCF = 37.5 RSC = 20% FI = 17.5
Toluene | 108883 | 1,300 | 15,000 | RfD = 2E-1 BCF = 10.7 RSC = 20% FI = 17.5
1,2-Trans-Dichloro-ethylene | 156605 | 140 | 10,000 | RfD = 2E-2 BCF = 1.58 RSC = 20% FI = 17.5
Vinyl Chloride | 75014 | 0.025 | 2.4 | q1* = 1.4 (LMS exposure from birth) BCF = 1.17 FI = 17.5
1,2-Dichlorobenzene | 95501 | 420 | 1,300 | RfD = 9E-2 BCF = 55.6 RSC = 20% FI = 17.5
1,4-Dichlorobenzene | 106467 | 63 | 190 | ADI = 1.34E-2 (ADI for 1,2-DCB used) BCF = 55.6 RSC = 20% FI = 17.5
Hexachlorocyclo-pentadiene | 77474 | 40 | 1,100 | RfD = 6E-3 BCF = 4.34 RSC = 20% FI = 17.5
1,2,4-Trichloro-benzene | 120821 | 35 | 70 | RfD = 1E-2 BCF = 114 RSC = 20% FI = 17.5
gamma-BHC (Lindane) | 58899 | 0.98 | 1.8 | RfD= 3E-4 BCF = 130 RSC= 20% FI = 17.5
Endrin | 72208 | 0.059 | 0.060 | RfD = 3E-4 BCF = 3970 RSC = 20% FI = 17.5

EPA received much support for revising criteria based on partially updated components of the criteria equations as a way of increasing the frequency of scientific improvements to the nationally recommended criteria that currently-available information would allow. For a water quality criterion revision based on a partial update to be considered acceptable to EPA, a component of the criterion (e.g., the toxicological risk assessment) should be comprehensive (e.g., a new or revised RfD or cancer dose-response assessment, as opposed to simply a new scaling factor), stand alone and be based on new national or local data. The recalculation of all fifteen water quality criteria integrates the updated national default freshwater/estuarine fish consumption rate of 17.5 grams/day. Thirteen of the criteria integrate a previously-determined relative source contribution (RSC) value from the national primary drinking water standards for the same chemicals. EPA also incorporated into the recalculations a new cancer potency factor (q1*) for 1,3-dichloropropene and vinyl chloride, and a new reference dose (RfD) for 1,1-dichloroethylene, hexachlorocyclopentadiene and lindane. These values have already been published in the Agency's Integrated Risk Information System (IRIS). Both an RfD and q1* are available in IRIS for 1,3-dichloropropene and vinyl chloride. EPA used the q1* to derive the criteria in these cases rather than the RfD because it resulted in more protective criteria.

Today's revisions of the water quality criteria used the bioconcentration factor (BCF) or field-measured BAF developed using the 1980 Methodology. The BCFs used in deriving today's criteria are consistent with the BCFs used in promulgating human health criteria for priority toxic pollutants in rules such as the 1992 National Toxics Rule and the 2000 California Toxics Rule.

EPA has partially revised 83 additional human health criteria which are available on the Office of Science and Technology's website under Criteria Table (see http://www.epa.gov/waterscience/humanhealth/). Again, as previously described, EPA has published the compilation including the 83 recalculated criteria directly as the Agency's national recommended water quality criteria because the updates result in minor changes.

IV. What Is the Relationship Between the Water Quality Criteria and Your State or Tribal Water Quality Standards?

As part of the water quality standards triennial review process defined in section 303(c)(1) of the CWA, the States and authorized Tribes are responsible for maintaining and revising water quality standards. Water quality standards consist of designated uses, water quality criteria to protect those uses, a policy for antidegradation, and general policies for application and implementation. Section 303(c)(1) requires States and authorized Tribes to review and modify, if appropriate, their water quality standards at least once every three years.

States and authorized Tribes must adopt water quality criteria that protect designated uses. Protective criteria are based on a sound scientific rationale and contain sufficient parameters or constituents to protect the designated uses. Criteria may be expressed in either narrative or numeric form. States and authorized Tribes have four options when adopting water quality criteria for which EPA has published section 304(a) criteria. They can:

(1) Establish numerical values based on recommended section 304(a) criteria;

(2) Adopt section 304(a) criteria modified to reflect site specific conditions;

(3) Adopt criteria derived using other scientifically defensible methods; or

(4) Establish narrative criteria where numeric criteria cannot be determined (40 CFR 131.11).

Consistent with 40 CFR 131.21 (see: EPA Review and Approval of State and Tribal Water Quality Standards (65 FR 24641, April 27, 2000)), water quality criteria adopted by law or regulation by States and authorized Tribes prior to May 30, 2000, are in effect for CWA purposes unless superseded by federal regulations (see, for example, the National Toxics Rule, 40 CFR 131.36; Water Quality Standards for Idaho, 40 CFR 131.33). New or revised water quality criteria adopted into law or regulation by States and authorized Tribes on or after May 30, 2000 are in effect for CWA purposes only after EPA approval.

V. What Is the Status of Existing Recommended Criteria While They Are Under Revision?

Water quality criteria published by EPA remain the Agency's recommended water quality criteria until EPA revises or withdraws the criteria. For example, while undertaking recent reassessments of dioxin and other chemicals, EPA has consistently supported the use of the current section 304(a) criteria for these chemicals and considers them to be scientifically sound until the Agency reevaluates the 304(a) criteria, subjects the criteria to appropriate peer review, and publishes revised 304(a) criteria.

VI. Where Can I Find More Information About Water Quality Criteria and Water Quality Standards?

For more information about water quality criteria and Water Quality Standards refer to the following: Water Quality Standards Handbook (EPA 823-B94-005a); Advanced Notice of Proposed Rule Making (ANPRM), (63FR36742); Water Quality Criteria and Standards Plan—Priorities for the Future (EPA 822-R-98-003); Guidelines and Methodologies Used in the Preparation of Health Effects Assessment Chapters of the Consent Decree Water Criteria Documents (45FR79347); Methodology for Deriving Ambient Water Quality Criteria for the Protection of Human Health (2000), EPA-822-B-00-004, October 2000); Guidelines for Deriving Numerical National Water Quality Criteria for the Protection of Aquatic Organisms and Their Uses (EPA 822/R-85-100); National Strategy for the Development of Regional Nutrient Criteria (EPA 822-R-98-002); and EPA Review and Approval of State and Tribal Water Quality Standards (65 FR 24641).

You can find these publications through EPA's National Service Center for Environmental Publications (NSCEP, previously NCEPI) or on the Office of Science and Technology's Home-page (http://www.epa.gov/waterscience).

Dated: December 19, 2002.
Geoffrey H. Grubbs,
Director, Office of Science and Technology.

[FR Doc. 02-32770 Filed 12-26-02; 8:45 am]

BILLING CODE 6560-50-P